DEPARTMENT OF COMMERCE

International Trade Administration

Environmental Technologies Trade Advisory Committee (ETTAC), Request for Nominations

AGENCY: International Trade Administration, DOC.

ACTION: Notice of solicitation of nominations for membership on the Environmental Technologies Trade Advisory Committee (ETTAC).

SUMMARY: The Environmental Technologies Trade Advisory Committee (ETTAC) was established under the Federal Advisory Committee Act, as amended, 5 U.S.C. App., and pursuant to Section 2313(c) of the Export Enhancement Act of 1988, as amended, 15 U.S.C. 4728(c). ETTAC was first chartered on May 31, 1994. By statute, the ETTAC advises, through the Secretary of Commerce, the Environmental Trade Working Group (ETWG) of the Trade Promotion Coordinating Committee (TPCC). The Secretary appoints the chair of the ETWG from among the employees of the Department. Although the ETWG is not currently active, the Department continues to function as chair of the ETWG, and the Department, as ETWG chair, utilizes the advice of the ETTAC and shares it with the TPCC or relevant TPCC member agencies as appropriate. ETTAC advises on the development and administration of policies and programs to expand U.S. exports of environmental technologies, goods, and services. The Department of Commerce rechartered the ETTAC on October 25, 2010 and is currently seeking nominations for membership on the ETTAC for the new charter term.

DATES: Nominations for membership must be received on or before December 3, 2010.

ADDRESSES: All nominations should be submitted either: Via e-mail to ellen.bohon@trade.gov; via fax to the attention of Ellen Bohon at 202-482-5665; or via mail to Ellen Bohon, Office of Energy & Environmental Industries, Room 4053, U.S. Department of Commerce, 14th Street and Constitution Avenue, NW., Washington, DC 20230.

FOR FURTHER INFORMATION CONTACT: Ellen Bohon, Office of Energy & Environmental Industries, Room 4053, U.S. Department of Commerce, 14th Street and Constitution Avenue, NW., Washington, DC 20230; phone 202-482-03859; fax 202-482-5665; e-mail Ellen.Bohon@trade.gov

SUPPLEMENTARY INFORMATION: The Secretary of Commerce invites nominations to ETTAC for the charter term beginning October 25, 2010 for appointments for a two-year term concurrent with the charter term. Members will be selected, in accordance with applicable Department of Commerce Guidelines, based upon their ability to advise the Secretary of Commerce on the development and administration of programs to expand United States exports of environmental technologies, products, and services that comply with United States environmental, safety, and related requirements, as articulated in ETTAC's Charter. The ETTAC shall advise on matters including: Trade policy development and negotiations relating to U.S. environmental technologies exports; U.S. Government policies and programs on the export of U.S. environmental products, technologies, and services; the effect of foreign governments' policies and practices on the export of U.S. environmental products, technologies, and services; the competitiveness of U.S. industry and its ability to compete for environmental technologies, products and services opportunities in international markets; and the identification of priority environmental technologies, products and services markets with high immediate returns for U.S. exports. More information on the advisory duties of ETTAC members can be found on ETTAC's Charter, which is available on the Internet at http://www.environment.ita.doc.gov under the tab: Advisory Committee.

Members of the ETTAC shall be selected in a manner that ensures that the ETTAC is balanced in terms of points of view, product lines, company size, and geographic location. Members of the ETTAC shall be drawn from U.S. environmental technologies manufacturing and services companies, U.S. trade associations, and U.S. private sector organizations involved in the promotion of exports of environmental technologies, products, and services, provided that, the ETTAC shall include at least one individual representing each of the following: Environmental businesses, including small businesses; trade associations in the environmental sector; private sector organizations involved in the promotion of environmental exports, including products that comply with U.S. environmental, safety, and related requirements; States and associations representing the States; and other appropriate interested members of the public, including labor representatives.

Members shall serve in a representative capacity, expressing the views and interests of a U.S. company or organization, as well as its particular sector; they are, therefore, not Special Government Employees. Each member of the ETTAC must be a U.S. citizen, not a federally-registered lobbyist, and not registered as a foreign agent under the Foreign Agents Registration Act.

Members of the ETTAC will not be compensated for their services or reimbursed for their travel expenses. The ETTAC shall, to the extent practicable, meet approximately three times a year. Most ETTAC meetings are held in Washington, DC.

Members of the ETTAC who have experience in exporting the full range of environmental technologies products and services are sought, including experience in the following sectors:

(1) Air Pollution Control/Monitoring;

(2) Analytic Devices and Services;

(3) Environmental Engineering and Consulting Services;

(4) Financial Services for the Environmental Sector;

(5) Process and Prevention Technologies;

(6) Solid and Hazardous Waste; and

(7) Water and Wastewater Treatment.

All appointments are made without regard to political affiliation. Members shall serve at the pleasure of the Secretary from the date of appointment to the Committee to the date on which the Committee's charter terminates (normally two years).

Self-nominations are accepted. If you are interested in nominating someone to become a member of ETTAC, please provide the following information (2 pages maximum):

(1) Name;

(2) Title;

(3) Work phone, fax, and e-mail address;

(4) Name and Address of entity to be represented by the applicant, including Web site address;

(5) Short biography of nominee including the applicant's personal resume demonstrating knowledge and experience relevant to the work of the ETTAC;

(6) Brief description of the entity to be represented, and, as applicable, its business activities; company size (number of employees and annual sales); and export markets served;

(7) An affirmative statement that the applicant is not required to register as a foreign agent under the Foreign Agents Registration Act of 1938, as amended;

(8) An affirmative statement that the applicant is not a federally-registered lobbyist, and that the applicant understands that if appointed, the applicant will not be allowed to continue to serve as an ETTAC member if the applicant becomes a federally-registered lobbyist; and

(9) An affirmative statement that the applicant meets all ETTAC eligibility requirements, including that the applicant represent a U.S. company or U.S. organization.

(a) For purposes of ETTAC eligibility, a U.S. company is at least 51 percent owned by U.S. persons.

(b) For purposes of ETTAC eligibility, a U.S. organization is controlled by U.S. persons, as determined based on its board of directors (or comparable governing body), membership, and funding sources, as applicable.

Please, do not send entity brochures or any other information.

Nominations may be e-mailed to ellen.bohon@trade.gov or faxed to the attention of Ellen Bohon at 202-482-5665, and must be received before the deadline of Friday, December 3, 2010. Nominees selected for appointment to ETTAC will be notified.

Dated: November 9, 2010.
Edward A. O'Malley,
Director, Office of Energy and Environmental Industries.

[FR Doc. 2010-28877 Filed 11-16-10; 8:45 am]

BILLING CODE 3510-DR-P